DEPARTMENT OF THE INTERIOR

Fish and Wildlife Service

[FWS-R5-R-2008-N0021; 50130-1265-0000-S3; ABC Code: S3]

Wallkill River National Wildlife Refuge, Sussex, NJ

AGENCY: Fish and Wildlife Service, Interior.

ACTION: Notice of availability: draft comprehensive conservation plan and environmental assessment; request for comments.

SUMMARY: We, the U.S. Fish and Wildlife Service (Service), announce the availability for review of the Draft Comprehensive Conservation Plan (CCP) and Environmental Assessment (EA) for Wallkill River National Wildlife Refuge (NWR). The Service prepared the Draft CCP/EA in compliance with the National Environmental Policy Act of 1969 and the National Wildlife Refuge System Administration Act of 1966, as amended by the National Wildlife Refuge System Improvement Act of 1997. We request public comments.

DATES: The Draft CCP/EA will be available for public review and comment until close of business on March 10, 2008.

ADDRESSES: You may obtain copies of the Draft CCP/EA on CD-ROM or in print by writing to Beth Goldstein, Refuge Planner, U.S. Fish and Wildlife Service, 300 Westgate Center Drive, Hadley, Massachusetts 01035, or by electronic mail at northeastplanning@fws.gov. You may also view the draft plan on the Web at: http://www.fws.gov/northeast/planning/Wallkill%20River/ccphome.html. We will host public meetings on Wednesday, Feb. 20 in Augusta, NJ and Thursday, Feb. 21 in Wantage, NJ We will post the details of each meeting 2 weeks in advance, via our project mailing list, in local papers, and at the refuge.

FOR FURTHER INFORMATION CONTACT: For more information, or to get on the project mailing list, contact Beth Goldstein, Refuge Planner, at the address above, by telephone at 413-253-8564, by fax at 413-253-8468, or by electronic mail at Beth_Goldstein@fws.gov.

SUPPLEMENTARY INFORMATION: The National Wildlife Refuge System Administration Act of 1966, as amended by the National Wildlife Refuge System Improvement Act of 1997 (16 U.S.C. 668dd et seq.), requires the Service to develop a CCP for each refuge. The purpose of developing a CCP is to provide refuge managers with a 15-year strategy for achieving refuge purposes and contributing to the mission of the National Wildlife Refuge System (NWRS), in conformance with the sound principles of fish and wildlife science, natural resources conservation, legal mandates, and Service policies. In addition to outlining broad management direction on conserving wildlife and habitats, CCPs identify compatible wildlife-dependent recreational opportunities available to the public, including opportunities for hunting, fishing, wildlife observation and photography, and environmental interpretation and education. The Service will review and update each CCP at least once every 15 years.

Congress established the Wallkill River Refuge by law on November 16, 1990 (Section 107 of H.R. 3338; Pub. L. 101-593) with the following purposes: (1) To preserve and enhance the refuge's lands and waters in a manner that will conserve the natural diversity of fish, wildlife, plants, and their habitats for present and future generations, (2) to conserve and enhance populations of fish, wildlife, and plants within the refuge, including populations of black ducks and other waterfowl, raptors, passerines, and marsh and water birds, (3) to protect and enhance the water quality of aquatic habitats within the refuge, (4) to fulfill international treaty obligation of the United States with respect to fish and wildlife and their habitats, and (5) to provide opportunities for compatible scientific research, environmental education, and fish- and wildlife-oriented recreation (104 Stat. 2955).

The refuge encompasses approximately 5,000 acres, stretching from Sussex County, New Jersey to Orange County, New York. It is located along a 9-mile stretch of the Wallkill River, and lies in a rolling valley within the Appalachian Ridge and Valley physiographic province. The region's major wetlands are former glacial lake bottoms, and the lake's organic muck soils support extensive bottomland hardwood forests, wet meadows, and farm fields. Since establishing the refuge, we have focused primarily on conserving, restoring, and enhancing the natural diversity of fish, wildlife, plants and their habitats along the Wallkill River. Management activities include restoring wetlands, creating moist soil management units, maintaining grasslands and providing wildlife-dependent recreational opportunities.

The Draft CCP/EA evaluates three alternatives that address nine major issues identified during the planning process. Several sources generated those issues, including the public, State or Federal agencies, other Service programs, and our planning team. The Draft CCP/EA describes those issues in detail. Highlights of the alternatives follow.

Alternative A (Current Management): This alternative is the “No Action” alternative required by the National Environmental Policy Act of 1969 (42 U.S.C. 4321-4347, as amended). Alternative A defines our current management activities, including those planned, funded, or under way, and serves as the baseline against which to compare the other two action alternatives. It would maintain our present levels of approved refuge staffing and the biological and visitor programs. Our biological program would continue to use a variety of habitat management tools to maintain the refuge's scrub-shrub habitats, non-forested wetlands, grasslands and forested communities. We would continue efforts to protect the federally-threatened bog turtle by managing occupied sites on refuge-owned lands and attempting to acquire occupied sites within the current acquisition boundary. We would continue to offer hunt programs for deer, spring and fall turkey, woodcock, resident Canada geese, waterfowl and other migratory birds according to New Jersey State seasons. We would maintain current access sites for fishing and boating, and current trails for wildlife observation and photography. We would continue to offer limited environmental education and interpretation programs, as staffing and funding allows. Finally, we would continue to pursue the acquisition from willing sellers of the remaining 2,021 acres of important wildlife habitat that lies within our currently approved acquisition boundary.

Alternative B (the Service-preferred alternative): This alternative represents the combination of actions we believe most effectively achieves the purposes and goals of the refuge and addresses the major issues. It builds on the programs identified under current management. We would conduct field surveys of all suitable bog turtle sites on refuge-owned lands and we would develop a site management and monitoring plan for occupied and potential sites. We would hire a contractor to conduct surveys of Indiana bats (federally listed as endangered) and we would determine the feasibility of re-establishing dwarf wedgemussel (federally listed as endangered) populations on Service-owned lands. We would take a more proactive approach to restoring wetlands and establish a 100-meter forested riparian corridor along either side of the Wallkill River where it traverses the refuge. We would establish three grassland focus areas on the refuge and let other small fields revert to scrub-shrub habitat.

We would open the refuge to bear hunting according to State seasons and provide at least one additional fishing access site in the current refuge boundary. We would increase access to Service-owned lands within the current refuge by opening at least two new trails and extending an existing trail. We would also develop new interpretive materials and work with partners to expand the refuge's environmental education programs.

Alternative B proposes to expand the current approved refuge boundary by 9,550 acres through a combination of fee-simple and easement acquisition from willing sellers. The proposed expansion boundary includes four focus areas, including the 7,079-acre Papakating Creek Focus Area, which encompasses a 15-mile tributary of the Wallkill River. All four focus areas have tremendous wetland resource values, and together they form a key corridor connection between preserved habitats on the Kittatinny Ridge to the west and the Hudson Highlands to the east. Finally, they would fully complement and enhance the Federal, State and private conservation partnerships actively involved in protecting this unique ecosystem.

Alternative C: This alternative proposes to establish and maintain the ecological integrity of natural communities on the refuge and surrounding landscape without specific emphasis or concern for any particular species or species groups. Under this alternative, refuge lands would be restored to their historic condition as they existed in the Wallkill River Valley during the late 1600s. At this time, the area was thought to consist of a forested matrix dominated by floodplain forest. A bottomland hardwood forest component would be established on more than 70 percent of the current refuge. Sites prone to continuous flooding would likely be sustained as emergent marsh and shrublands. Upland sites would likely revert to a mixed mid-Atlantic hardwood forest association. We would also restore, to the extent practicable, the natural hydrologic regimen of the Wallkill River and its tributaries by removing man-made impediments to natural flow, such as the freshwater impoundments in place to benefit waterfowl.

Under Alternative C, we would allow hunting for deer and resident Canada geese only. Otherwise, public use within the current refuge boundary would remain the same as Alternative A.

Alternative C proposes a 7,609-acre boundary expansion that includes two of the four focus areas proposed in Alternative B. These focus areas were chosen because they offer the greatest potential for restoring the natural hydrologic regimen of the Wallkill River system. As in Alternative B, those expansion lands consist of high-quality, important wildlife habitat; occur in an amount and distribution that provide us the management flexibility to achieve refuge habitat goals and objectives; and fully complement and enhance the land management of adjacent conservation partners.

We plan to announce the availability of our Draft CCP/EA in the Federal Register for a 30-day public review and comment period. After we evaluate and respond to public comments on the draft document, we will prepare a final CCP for review by our Regional Director. We will simultaneously submit the Land Protection Plan, outlining our expansion proposal, to the Director for his review. The Regional Director will evaluate the final CCP for agency compliance requirements, and to determine whether it will achieve refuge purposes and help fulfill the Refuge System mission. If he approves that document, and the Director concurs with the Land Protection Plan, the decision will be documented in a Finding of No Significant Impact (FONSI). We can begin implementation of the final CCP as soon as our Regional Director issues the FONSI.

Dated: September 26, 2007.
Thomas J. Healy,
Acting Regional Director, Northeast Region, U.S. Fish and Wildlife Service, Hadley, Massachusetts.

Editorial Note: This document was received at the Office of the Federal Register on January 30, 2008.

[FR Doc. E8-1936 Filed 2-1-08; 8:45 am]

BILLING CODE 4310-55-P